DEPARTMENT OF THE INTERIOR

Bureau of Safety and Environmental Enforcement

[Docket ID No. BSEE-2011-0006; OMB Control Number 1014-NEW]

Information Collection Activities: Oil, Gas, and Sulphur Operations in the Outer Continental Shelf, Subpart A, General; Submitted for Office of Management and Budget (OMB) Review; Comment Request

ACTION: 60-day Notice.

SUMMARY: To comply with the Paperwork Reduction Act of 1995 (PRA), BSEE is inviting comments on a collection of information that we will submit to the Office of Management and Budget (OMB) for review and approval. The information collection request (ICR) concerns a revision to the paperwork requirements in the regulations under “Oil, Gas, and Sulphur Operations in the Outer Continental Shelf,” Subpart A, General.

DATES: Submit comments by April 3, 2012.

ADDRESSES: You may submit comments by either of the following methods listed below.

• Electronically: go to http://www.regulations.gov. In the entry titled “Enter Keyword or ID,” enter BSEE-2011-0006 then click search. Follow the instructions to submit public comments and view all related materials. We will post all comments.

• Email: nicole.mason@bsee.gov. Mail or hand-carry comments to the Department of the Interior; Bureau of Safety and Environmental Enforcement; Regulations Development Branch; Attention: Nicole Mason; 381 Elden Street, MS-4024; Herndon, Virginia 20170-4817. Please reference ICR 1014-NEW in your comment and include your name and return address.

FOR FURTHER INFORMATION CONTACT: Nicole Mason, Regulations Development Branch at (703) 787-1605 to request additional information about this ICR.

SUPPLEMENTARY INFORMATION: Title: 30 CFR part 250, Oil, Gas, and Sulphur Operations in the Outer Continental Shelf, Subpart A, General.

Form(s): BSEE-0132, BSEE-0143, and BSEE-1832.

OMB Control Number: 1014-NEW.

Abstract: The Outer Continental Shelf (OCS) Lands Act, as amended (43 U.S.C. 1331 et seq. and 43 U.S.C. 1801 et seq.), authorizes the Secretary of the Interior to prescribe rules and regulations necessary for the administration of the leasing provisions of the Act related to mineral resources on the OCS. Such rules and regulations will apply to all operations conducted under a lease, right-of-way, or a right-of-use and easement. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, Bureau of Safety and Environmental Enforcement (BSEE) is required to charge fees for services that provide special benefits or privileges to an identifiable non-Federal recipient above and beyond those which accrue to the public at large. A request for approval required in Subpart A is subject to cost recovery, and BSEE regulations specify a service fee for this request.

This ICR covers 30 CFR 250, Subpart A, General. This request also covers the related Notices to Lessees and Operators (NTLs) that BSEE issues to clarify and provide additional guidance on some aspects of our regulations. To accommodate the split of regulations from the Bureau of Ocean Energy Management, Regulation and Enforcement to BSEE, BSEE is requesting OMB approval of the already approved burden hours that were previously under 1010-0114 to reflect BSEE's new 1014 numbering system.

Frequency: On occasion; monthly, or varies by section.

Description of Respondents: Potential respondents comprise Federal OCS lessees and/or operators.

Estimated Reporting and Recordkeeping Hour Burden: We estimate that the reporting burden for this collection will be approximately 50,859 hours. The following chart details the individual components and respective hour burden estimates of this ICR. In calculating the burdens, we assumed that respondents perform certain requirements in the normal course of their activities. We consider these to be usual and customary and took that into account in estimating the burden.

Citation 30 CFR 250 subpart A and related forms/NTLs | Reporting or recordkeeping requirement | Hour burden: Non-hour cost burden
Authority and Definition of Terms
104; Form BSEE-1832 | Appeal orders or decisions; appeal INCs [exempt under 5 CFR 1320.4(a)(2), (c)] | 0
Performance Standards
109(a); 110 | Submit welding, burning, and hot tapping plans | 2
118; 121; 124 | Apply for injection of gas; use BSEE-approved formula to determine original gas from injected/stored | 10
Cost Recovery Fees
125; 126 | Cost Recovery Fees; confirmation receipt etc; verbal approvals pertaining to fees [cost recovery fees and related items are covered individually throughout this subpart] | 0
Forms
130-133 | Submit “green” response copy of Form BSEE-1832 indicating date violations (INCs) corrected | 2
145 | Submit designation of agent and local agent for Regional Supervisor's and/or Regional Director's approval | 1
186(a)(3); NTL | Apply to receive administrative entitlements to eWell (electronic/digital form submittals) [not considered information collection under 5 CFR 1320.3(h)(1)] | 0
192 | Daily report of evacuation statistics for natural occurrence/hurricane (GOMR Form BSEE-0132 (form takes 1 hour)) when circumstances warrant; inform BSEE when you resume production | 1.5
192(b) | Use Form BSEE-0143 to submit an initial damage report to the Regional Supervisor | 3
192(b) | Use Form BSEE-0143 to submit subsequent damage reports on a monthly basis until damaged structure or equipment is returned to service; immediately when information changes; date item returned to service must be in final report | 1
Inspection of Operations
130-133 | Request reconsideration from issuance of an INC | 2
| Request waiver of 14-day response time | 1
| Notify BSEE before returning to operations if shut-in | 1
133 | Request reimbursement for food, quarters, and transportation provided to BSEE representatives (no requests received in many years; minimal burden) | 1.5
Disqualification
135 BSEE internal process | Submit PIP under BSEE implementing procedures for enforcement actions | 40
Special Types of Approval
140 | Request various oral approvals not specifically covered elsewhere in regulatory requirements | 1
140(c) | Submit letter when stopping approved flaring with required information | 0
141; 198 | Request approval to use new or alternative procedures, along with supporting documentation if applicable, including BAST not specifically covered elsewhere in regulatory requirements | 20
142; 198 | Request approval of departure from operating requirements not specifically covered elsewhere in regulatory requirements, along with supporting documentation if applicable | 2.5
Naming and Identifying Facilities and Wells (Does Not Include MODUs)
150; 151; 152; 154(a) | Name and identify facilities, artificial islands, MODUs, helo landing facilities etc., with signs | 3
150; 154(b) | Name and identify wells with signs | 2
Suspensions
168; 170; 171; 172; 174; 175; 177; 180(b), (d) | Request suspension of operation or production; submit schedule of work leading to commencement; supporting information; include pay.gov confirmation receipt | 10 $1,968 fee
| Submit progress reports on SOO or SOP as condition of approval | 3
172(b); 177(a) | Conduct site-specific study; submit results; request payment by another party. No instances requiring this study in several years—could be necessary if a situation occurred such as severe damage to a platform or structure caused by a hurricane or a vessel collision | 100
177(b), (c), (d) | Various references to submitting new, revised, or modified exploration plan, development/production plan, or development operations coordination document [burden covered under BOEM's 30 CFR 550, subpart B, 1010-0151] | 0
Primary Lease Requirements, Lease Term Extensions, and Lease Cancellations
180(a), (h), (i), | Notify and submit report on various leaseholding operations and lease production activities | 2
180(f), (g), (h), (i) | Submit various operations and production data to demonstrate production in paying quantities to maintain lease beyond primary term; notify BSEE when you begin conducting operations beyond its primary term | 2 0.5
180(e), (j) | Request more than 180 days to resume operations; notify BSEE if operations do not begin within 180 days | 4 0.5
Information and Reporting Requirements
186; NTL | Submit information and reports as BSEE requires | 10
187; 188(a-b); 189; 190(a-c); 192; NTL | Report to the District Manager immediately via oral communication and written follow-up within 15 calendar days, incidents pertaining to: fatalities; injuries; LoWC; fires; explosions; all collisions resulting in property or equipment damage >$25K; structural damage to an OCS facility; cranes; incidents that damage or disable safety systems or equipment (including firefighting systems); include hurricane reports such as platform/rig evacuation, rig damage, P/L damage, and platform damage; operations personnel to muster for evacuation not related to weather or drills; any additional information required. If requested, submit copy marked as public information | Oral 0.5 Written 2.5
187(d) | Report all spills of oil or other liquid pollutants [burden covered under 30 CFR 254, 1014-0007] | 0
188(a)(5) | Report to District Manager hydrogen sulfide (H2S) gas releases immediately by oral communication [burden covered under 30 CFR 250, subpart D, 1014-0018] | 0
191 | Submit written statement/Request compensation mileage and services for testimony re: accident investigation [exempt under 5 CFR 1320.4(a)(2), (c)] | 0
193 | Report apparent violations or non-compliance | 1.5
194(c) | Report archaeological discoveries | 2
195 | Notify District Manager within 5 workdays of putting well in production status (usually oral). Follow-up with either fax/email within same 5 day period (burden includes oral and written) | 1
196 | Submit data/information for post-lease G&G activity and request reimbursement [burden covered under BOEM's 30 CFR 551, 1010-0048] | 0
197(c) | Submit confidentiality agreement | 1
101-199 | General departure or alternative compliance requests not specifically covered elsewhere in Subpart A | 2
Recordkeeping
108(e) | Retain records of design and construction for life of crane, including installation records for any anti-two block safety devices; all inspection, testing, and maintenance for at least 4 years; crane operator and all rigger personnel qualifications for at least 4 years | 1.5
109(b); 113(c) | Retain welding plan and drawings of safe-welding areas at site; designated person advises in writing that it is safe to weld | 1
132(b)(3) | During inspections make records available as requested by inspectors | 2

Estimated Reporting and Recordkeeping Non-Hour Cost Burden: We have identified one non-hour cost burden. Section 250.171 requests a cost recovery fee for either a Suspension of Operations or Production Request (SOO/SOP) for $1,968 per request. We estimate a total reporting non-hour cost burden of $3,268,848. We have not identified any other non-hour paperwork cost burdens associated with this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the collection is necessary or useful; (b) evaluate the accuracy of the burden of the proposed collection of information; (c) enhance the quality, usefulness, and clarity of the information to be collected; and (d) minimize the burden on the respondents, including the use of technology.

Agencies must also estimate the non-hour paperwork cost burdens to respondents or recordkeepers resulting from the collection of information. Therefore, if you have other than hour burden costs to generate, maintain, and disclose this information, you should comment and provide your total capital and startup cost components or annual operation, maintenance, and purchase of service components. For further information on this burden, refer to 5 CFR 1320.3(b)(1) and (2), or contact the Bureau representative listed previously in this notice.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

Dated: January 19, 2012.
Douglas W. Morris,
Chief, Office of Offshore Regulatory Programs.

[FR Doc. 2012-2363 Filed 2-2-12; 8:45 am]

BILLING CODE 4310-MR-P